ADMINISTRATIVE CONFERENCE OF THE UNITED STATES

Notice of Public Meeting of the Assembly of the Administrative Conference of the United States

AGENCY: Administrative Conference of the United States.

ACTION: Notice of public meeting.

SUMMARY: Pursuant to the Federal Advisory Committee Act (Pub. L. 92-463), notice is hereby given of a meeting of the Assembly of the Administrative Conference of the United States to consider proposed recommendations which deal with: (1) Legal issues arising from e-Rulemaking, (2) Federal government rulemaking procedures for dealing with public comments, (3) Federal agency use of video hearings in managing high-volume caseloads, and (4) enhanced ethics requirements for contractors that do business with the government. To facilitate public participation, the Conference is inviting public comment on the recommendations that will be considered at the meeting.

DATES: Meeting dates are Thursday, June 16, 2011, 2 p.m. to 6 p.m.; and Friday, June 17, 2011, 9 a.m. to 12:30 p.m. Comments on the recommendations must be received by Friday, June 10, 2011.

ADDRESSES: The Public Meeting will be held at the Pew Charitable Trusts Conference Center, 901 E Street, NW., Washington, DC 20004.

Submit comments to either of the following: e-mail comments@acus.gov, with “June 2011 Plenary Session Comments” in the subject line; or mail to June 2011 Plenary Session Comments, Administrative Conference of the United States, Suite 706 South, 1120 20th Street, NW., Washington, DC 20036.

FOR FURTHER INFORMATION CONTACT: Shawne McGibbon, General Counsel (the Designated Federal Officer), Administrative Conference of the United States, Suite 706 South, 1120 20th Street, NW., Washington, DC 20036; Telephone 202-480-2088.

SUPPLEMENTARY INFORMATION: The Administrative Conference of the United States makes recommendations to administrative agencies, the President, Congress, and the Judicial Conference of the United States regarding the improvement of Federal administrative procedures (5 U.S.C. 594). The objectives of these recommendations are to ensure that private rights may be fully protected and regulatory activities and other Federal responsibilities may be carried out expeditiously in the public interest, to promote more effective public participation and efficiency in the rulemaking process, reduce unnecessary litigation in the regulatory process, improve the use of science in the regulatory process, and improve the effectiveness of laws applicable to the regulatory process (5 U.S.C. 591).

The membership of the Conference meeting in plenary session constitutes the Assembly of the Conference (5 U.S.C. 595). The Assembly will meet in plenary session to consider four proposed recommendations:

(1) The recommendation “Legal Considerations in e-Rulemaking” addresses several issues raised by the evolution from paper to electronic rulemaking procedures. Among other things, it recommends that agencies use reliable software to analyze whether comments are identical or nearly identical, to save the cost of reading identical comments separately; and that agencies should maintain electronic records in lieu of paper records where possible, which should also produce a cost savings.

(2) The recommendation “Rulemaking Comments” addresses a variety of topics related to the “comment” phase of notice-and-comment rulemaking (independent of the innovations introduced by e-rulemaking, which are covered by the previous recommendation). Among other things, this recommendation urges agencies to promote more useful comments by explaining the characteristics of effective comments, to have policies on late comments, and to make use of reply comment periods where appropriate.

(3) The recommendation on “Video Hearings” addresses agency use of video teleconferencing technology, particularly in the processing of high-volume caseloads. At least one agency has successfully used this technology to save nearly 60 million dollars annually and reduce wait times for adjudication—all with no significant effect on case outcomes. The recommendation urges other agencies to consider whether they could benefit from similar use of video technology, provides factors agencies should consider as they make that decision, and provides best practices for effective use of video.

(4) The recommendation “Government Contractor Ethics” addresses improvements to ethics regulation for government contractor employees, who are now performing more and more of the Federal government's work, but who are subject to much less extensive ethics regulation than government employees. The recommendation attempts to promote ethical behavior by government contractors without imposing excessive compliance costs. The recommendation is addressed primarily to the Federal Acquisition Regulatory Council, which oversees the Federal Acquisition Regulation (FAR). It recommends, in part, that the FAR Council adopt model contract clauses on contractor ethics that agencies could use when entering into contracts for government services.

This meeting will be open to the public and may end prior to the designated end time if business is concluded earlier. Members of the public are invited to attend the meeting in person, subject to space limitations. The Conference will also provide remote public access to the meeting via webcast. Anyone who wishes to attend the meeting in person is asked to RSVP to comments@acus.gov, no later than June 14, 2011, in order to facilitate entry. Members of the public who attend the meetings of the full Assembly are not permitted to speak except in the discretion of the Chairman, with unanimous approval of the members. The Conference welcomes the attendance of the public and will make every effort to accommodate persons with physical disabilities or special needs. If you need special accommodations due to disability, please inform the contact person noted above no later than 7 days in advance of the meeting.

Members of the public may submit written comments on any or all of the recommendations to either of the addresses listed above no later than June 10, 2011. Copies of the proposed recommendations and information on remote access will be available at http://www.acus.gov. All comments relating to the individual proposed recommendations will be delivered to the Designated Federal Officer listed on this notice and will be posted on the Conference's Web site after the close of the comment period. Comments received at this stage will be available to the full Assembly prior to their consideration of the final recommendations.

Dated: May 18, 2011.
Shawne McGibbon,
General Counsel.

[FR Doc. 2011-12715 Filed 5-23-11; 8:45 am]

BILLING CODE 6110-01-M